DEPARTMENT OF AGRICULTURE

Animal and Plant Health Inspection Service

[Docket No. APHIS-2023-0058]

Veterinary Services User Fees; Correction

AGENCY: Animal and Plant Health Inspection Service, U.S. Department of Agriculture (USDA).

ACTION: Notice; Correction.

SUMMARY: The Animal and Plant Health Inspection Service is correcting a notice that published in the Federal Register on November 8, 2024. The notice announced proposed adjusted user fee rates for the costs of providing certain goods and services, including veterinary diagnostic goods and services and veterinary services for imports and exports of live animals and animal products. The notice erroneously omitted a proposed adjusted fee in one of the tables provided. This document updates that table.

FOR FURTHER INFORMATION CONTACT: For information on the user fee activities covered by this notice, contact Ms. Lisa Slimmer, User Fee Financial Team Manager, Veterinary Services Money Management, 920 Main Campus Drive, Raleigh, NC 27606; (919) 414-7205.

SUPPLEMENTARY INFORMATION: On November 8, 2024, the Animal and Plant Health Inspection Service published a notice (89 FR 88697-88712) that is open for comment until December 9, 2024, and announced proposed adjusted user fee rates for the costs of providing certain goods and services, including veterinary diagnostic goods and services and veterinary services for imports and exports of live animals and animal products. The notice erroneously omitted a proposed adjusted fee for “Bacterial disease CF antigens, all other” in table 21. This notice corrects the inadvertent omission and updates table 21.

Correction

In FR Doc. 2024-25826, appearing at 89 FR 88697-88712 in the Federal Register on November 8, 2024, the following correction is made:

Table 21 [Corrected]

On page 88709, table 21 is printed in its entirety with the addition, in alphabetical order, of a row for “Bacterial disease CF antigens, all other” to read as follows:

Table 21—User Fees for Veterinary Diagnostic Reagents Produced at NVSL or Other Authorized Sites
Reagent | Unit | Current fee | Proposed adjusted fee
Anaplasma card test antigen | 2 mL | $103.00 | $209.00
Anaplasma card test kit without antigen | Kit | 139.00 | 282.00
Anaplasma CF antigen | 2 mL | 47.00 | 96.00
Anaplasma stabilate | 4.5 mL | 188.00 | 404.00
Avian origin bacterial antiserums | 1 mL | 52.00 | 215.00
Bacterial agglutinating antigens other than brucella and salmonella pullorum | 5 mL | 59.00 | 140.00
Bacterial conjugates | 1 mL | 105.00 | 108.00
Bacterial disease CF antigens, all other | 1 mL | 32.00 | 65.00
Bacterial ELISA antigens | 1 mL | 32.00 | 65.00
Bacterial or protozoal antiserums, all other | 1 mL | 66.00 | 146.00
Bacterial reagent culture ¹ | Culture | 79.00 | 242.00
Bacterial reference culture ² | Culture | 249.00 | 645.00
Bacteriophage reference culture | Culture | 188.00 | 381.00
Bovine serum factor | 1 mL | 19.00 | 39.00
Brucella abortus CF antigen | 60 mL | 165.00 | 350.00
Brucella agglutination antigens, all other | 60 mL | 165.00 | 334.00
Brucella buffered plate antigen | 60 mL | 188.00 | 404.00
Brucella canis tube antigen | 25 mL | 124.00 | 264.00
Brucella card test antigen (packaged) | Package | 98.00 | 199.00
Brucella card test kit without antigen | Kit | 119.00 | 248.00
Brucella cells | Gram | 20.00 | 41.00
Brucella cells, dried | Pellet | 6.25 | 13.00
Brucella ring test antigen | 60 mL | 263.00 | 527.00
Brucella rivanol solution | 60 mL | 32.00 | 65.00
Dourine CF antigen | 1 mL | 97.00 | 597.00
Dourine stabilate | 4.5 mL | 116.00 | 235.00
Equine and bovine origin babesia species antiserums | 1 mL | 139.00 | 334.00
Equine negative control CF antigen | 1 mL | 293.00 | 593.00
Flazo-orange | 3 mL | 14.00 | 29.00
Glanders CF antigen | 1 mL | 84.00 | 170.00
Hemoparasitic disease CF antigens, all other | 1 mL | 590.00 | 1,194.00
Leptospira transport medium | 10 mL | 4.75 | 9.75
Monoclonal antibody | 1 mL | 103.00 | 209.00
Mycobacterium spp. old tuberculin | 1 mL | 26.00 | 53.00
Mycobacterium spp. PPD | 1 mL | 20.00 | 41.00
Mycoplasma hemagglutination antigens | 5 mL | 197.00 | 430.00
Negative control serums | 1 mL | 20.00 | 43.00
Rabbit origin bacterial antiserum | 1 mL | 56.00 | 114.00
Salmonella pullorum microagglutination antigen | 5 mL | 17.00 | 35.00
Stabilates, all other | 4.5 mL | 730.00 | 1,478.00
¹ A reagent culture is a bacterial culture that has been subcultured one or more times after being tested for purity and identity. It is intended for use as a reagent with a diagnostic test such as the leptospiral agglutination test.
² A reference culture is a bacterial culture that has been thoroughly tested for purity and identity. It should be suitable as a master seed for future cultures.

Done in Washington, DC, this 19th day of November 2024.
Michael Watson,
Administrator, Animal and Plant Health Inspection Service.

[FR Doc. 2024-27520 Filed 11-21-24; 8:45 am]

BILLING CODE 3410-34-P